DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arizona:
Coconino (FEMA Docket No.: B-1421) | Unincorporated areas of Coconino County (14-09-0827P) | The Honorable Matt Ryan, Chairman, Coconino County Board of Supervisors, 219 East Cherry Avenue, Flagstaff, AZ 86001 | Community Development Department, Engineering Division, 2500 North Fort Valley Road, Building 1, Flagstaff, AZ 86001 | July 14, 2014 | 040019
Greenlee (FEMA Docket No.: B-1411) | Unincorporated areas of Greenlee County (13-09-2482P) | The Honorable David Gomez, Chairman, Greenlee County Board of Supervisors, P.O. Box 908, Clifton, AZ 85533 | Greenlee County Planning and Zoning Department, 253 5th Street, Clifton, AZ 85533 | June 26, 2014 | 040110
Maricopa (FEMA Docket No.: B-1411) | City of Peoria (13-09-2575P) | The Honorable Bob Barrett, Mayor, City of Peoria, 8401 West Monroe Street, Peoria, AZ 85345 | City Hall, 8401 West Monroe Street, Peoria, AZ 85345 | June 27, 2014 | 040050
Maricopa (FEMA Docket No.: B-1421) | City of Scottsdale (13-09-3424P) | The Honorable J.W. Lane, Mayor, City of Scottsdale, 3939 North Drinkwater Boulevard, Scottsdale, AZ 85251 | City Hall, 3939 North Drinkwater Boulevard, Scottsdale, AZ 85251 | July 11, 2014 | 045012
Maricopa (FEMA Docket No.: B-1421) | City of Scottsdale (14-09-0385P) | The Honorable J.W. Lane, Mayor, City of Scottsdale, 3939 North Drinkwater Boulevard, Scottsdale, AZ 85251 | City Hall, 3939 North Drinkwater Boulevard, Scottsdale, AZ 85251 | July 18, 2014 | 045012
Maricopa (FEMA Docket No.: B-1421) | City of Surprise (13-09-2884P) | The Honorable Sharon Wolcott, Mayor, City of Surprise, 16000 North Civic Center Plaza, Surprise, AZ 85374 | Community Services Department, 12425 West Bell Road, Suite D-100, Surprise, AZ 85374 | June 20, 2014 | 040053
Maricopa (FEMA Docket No.: B-1411) | Unincorporated areas of Maricopa County (13-09-2575P) | The Honorable Denny Barney, Chairman, Maricopa County Board of Supervisors, 301 West Jefferson Street, 10th Floor, Phoenix, AZ 85003 | Maricopa County Flood Control District, 2801 West Durango Street, Phoenix, AZ 85009 | June 27, 2014 | 040037
Maricopa (FEMA Docket No.: B-1421) | Unincorporated areas of Maricopa County (13-09-2884P) | The Honorable Denny Barney, Chairman, Maricopa County Board of Supervisors, 301 West Jefferson, 10th Floor, Phoenix, AZ 85003 | Maricopa County Flood Control District, 2801 West Durango Street, Phoenix, AZ 85009 | June 20, 2014 | 040037
Pima (FEMA Docket No.: B-1411) | City of Tucson (13-09-3259P) | The Honorable Jonathan Rothschild, Mayor, City of Tucson, 255 West Alameda Street, 10th Floor, Tucson, AZ 85701 | Planning and Development Services Department, 201 North Stone Avenue, 1st Floor, Tucson, AZ 85701 | July 7, 2014 | 040076
Yavapai (FEMA Docket No.: B-1421) | Town of Prescott Valley (13-09-1658P) | The Honorable Harvey C. Skoog, Mayor, Town of Prescott Valley, 7501 East Civic Circle, Prescott Valley, AZ 86314 | Engineering Division, 7501 East Civic Circle, Prescott Valley, AZ 86314 | July 25, 2014 | 040121
Yavapai (FEMA Docket No.: B-1421) | Unincorporated areas of Yavapai County (13-09-1658P) | The Honorable Rowle P. Simmons, Chairman, Yavapai County Board of Supervisors, 1015 Fair Street, Prescott, AZ 86305 | Yavapai County Flood Control District, 1120 Commerce Drive, Prescott, AZ 86305 | July 25, 2014 | 040093
California:
Orange (FEMA Docket No.: B-1421) | City of Newport Beach (14-09-1616P) | The Honorable Rush N. Hill, II, Mayor, City of Newport Beach, 100 Civic Center Drive, Newport Beach, CA 92660 | City Hall, 100 Civic Center Drive, Newport Beach, CA 92660 | July 11, 2014 | 060227
Tulare (FEMA Docket No.: B-1421) | City of Porterville (13-09-3041P) | The Honorable Cameron J. Hamilton, Mayor, City of Porterville, 291 North Main Street, Porterville, CA 93257 | Public Works Department, 291 North Main Street, Porterville, CA 93257 | July 25, 2014 | 060407
Colorado:
Arapahoe (FEMA Docket No.: B-1421) | City of Centennial (14-08-0302P) | The Honorable Cathy Noon, Mayor, City of Centennial, 13133 East Arapahoe Road, Centennial, CO 80112 | Southeast Metro Stormwater Authority, 76 Inverness Drive East, Suite A, Centennial, CO 80112 | July 18, 2014 | 080315
Arapahoe (FEMA Docket No.: B-1421) | City of Greenwood Village (14-08-0302P) | The Honorable Ron Rakowsky, Mayor, City of Greenwood Village, 6060 South Quebec Street, Greenwood Village, CO 80111 | City Hall, 6060 South Quebec Street, Greenwood Village, CO 80111 | July 18, 2014 | 080195
Larimer (FEMA Docket No.: B-1421) | City of Fort Collins (13-08-1143P) | The Honorable Karen Weitkunat, Mayor, City of Fort Collins, 3009 Phoenix Drive, Fort Collins, CO 80525 | Stormwater Utilities Department, 700 Wood Street, Fort Collins, CO 80521 | July 25, 2014 | 080102
Florida:
Broward (FEMA Docket No.: B-1421) | City of Hollywood (14-04-2264P) | The Honorable Peter J.M. Bober, Mayor, City of Hollywood, P.O. Box 229045, Hollywood, FL 33022 | City Hall, 2600 Hollywood Boulevard, Hollywood, FL 33020 | July 11, 2014 | 125113
Charlotte (FEMA Docket No.: B-1421) | Unincorporated areas of Charlotte County (13-04-8283P) | The Honorable Ken Doherty, Chairman, Charlotte County Board of Commissioners, 18500 Murdock Circle, Port Charlotte, FL 33948 | Charlotte County Community Development Department, 18500 Murdock Circle, Port Charlotte, FL 33948 | July 14, 2014 | 120061
Gulf (FEMA Docket No.: B-1411) | Unincorporated areas of Gulf County (13-04-5405P) | The Honorable Ward McDaniel, Chairman, Gulf County Board of Commissioners, 1000 Cecil G. Costin, Sr. Boulevard, Port St. Joe, FL 32456 | Gulf County Courthouse, 1000 Cecil G. Costin, Sr. Boulevard, Suite 311, Port St. Joe, FL 32456 | June 27, 2014 | 120098
Manatee (FEMA Docket No.: B-1421) | Unincorporated areas of Manatee County (14-04-1072P) | The Honorable Larry Bustle, Chairman, Manatee County Board of Commissioners, P.O. Box 1000, Bradenton, FL 34206 | Manatee County Building and Development Services Department, 1112 Manatee Avenue West, Bradenton, FL 34205 | July 14, 2014 | 120153
Monroe (FEMA Docket No.: B-1421) | Unincorporated areas of Monroe County (14-04-0921P) | The Honorable Sylvia Murphy, Mayor, Monroe County, 1100 Simonton Street, Key West, FL 33040 | Monroe County Public Works Department, 1100 Simonton Street, Key West, FL 33040 | July 25, 2014 | 125129
Monroe (FEMA Docket No.: B-1421) | Unincorporated areas of Monroe County (14-04-1809P) | The Honorable Sylvia Murphy, Mayor, Monroe County, 1100 Simonton Street, Key West, FL 33040 | Monroe County Public Works Department, 1100 Simonton Street, Key West, FL 33040 | July 25, 2014 | 125129
Pinellas (FEMA Docket No.: B-1411) | City of St. Petersburg (13-04-5913P) | The Honorable Rick Kriseman, Mayor, City of St. Petersburg, 175 5th Street North, St. Petersburg, FL 33701 | Municipal Services Center, Permit Division, 1 4th Street North, St. Petersburg, FL 33701 | June 27, 2014 | 125148
Polk (FEMA Docket No.: B-1421) | City of Bartow (13-04-7607P) | The Honorable James F. Clements, Mayor, City of Bartow, 450 North Wilson Avenue, Bartow, FL 33830 | Building Department, 450 North Wilson Avenue, Bartow, FL 33830 | July 17, 2014 | 120263
Polk (FEMA Docket No.: B-1421) | Unincorporated areas of Polk County (13-04-7607P) | The Honorable R. Todd Dantzler, Chairman, Polk County Board of Commissioners, P.O. Box 9005, Bartow, FL 33831 | Polk County Engineering Division, 330 West Church Street, Bartow, FL 33830 | July 17, 2014 | 120261
Sarasota (FEMA Docket No.: B-1411) | Town of Longboat Key (12-04-8304P) | The Honorable Jim Brown, Mayor, Town of Longboat Key, 501 Bay Isles Road, Longboat Key, FL 34228 | Planning, Zoning and Building Department, 501 Bay Isles Road, Longboat Key, FL 34228 | July 7, 2014 | 125126
Sumter (FEMA Docket No.: B-1411) | City of Wildwood (14-04-1328P) | The Honorable Ed Wolf, Mayor, City of Wildwood, 100 North Main Street, Wildwood, FL 34785 | Development Services Department, 100 North Main Street, Wildwood, FL 34785 | July 11, 2014 | 120299
Montana: Fallon (FEMA Docket No.: B-1421) | Unincorporated areas of Fallon County (13-08-0962P) | The Honorable Deb Ranum, Chair, Fallon County Board of Commissioners, P.O. Box 846, Baker, MT 59313 | Fallon County Courthouse, Office of the Clerk and Recorder, 10 West Fallon Avenue, Baker, MT 59393 | June 30, 2014 | 300149
North Carolina:
Buncombe (FEMA Docket No.: B-1423) | Unincorporated areas of Buncombe County (14-04-3019P) | The Honorable David Gantt, Chairman, Buncombe County Board of Commissioners, 200 College Street, Room, 316, Asheville, NC 28801 | Buncombe County Planning Department, 46 Valley Street, Asheville, NC 28801 | July 11, 2014 | 370031
Guilford (FEMA Docket No.: B-1417) | City of Greensboro (13-04-6581P) | The Honorable Nancy Vaughan, Mayor, City of Greensboro, P.O. Box 3136, Greensboro, NC 27402 | Water Resources Department, Planning and Engineering Section, 2602 South Elm-Eugene Street, Greensboro, NC 27406 | June 17, 2014 | 375351
Rockingham (FEMA Docket No.: B-1421) | City of Reidsville (13-04-2888P) | The Honorable John M. “Jay” Donecker, Mayor, City of Reidsville, 230 West Moreshead Street, Reidsville, NC 27320 | City Hall, 230 West Moreshead Street, Reidsville, NC 27320 | July 7, 2014 | 370209
Wake (FEMA Docket No.: B-1421) | Town of Fuquay-Varina (13-04-4877P) | The Honorable John W. Byrne, Mayor, Town of Fuquay-Varina, 401 Old Honeycutt Road, Fuquay-Varina, NC 27526 | Planning Department, 401 Old Honeycutt Road, Fuquay-Varina, NC 27526 | June 30, 2014 | 370239
South Carolina: Charleston (FEMA Docket No.: B-1407) | Unincorporated areas of Charleston County (13-04-7776P) | The Honorable Teddie E. Pryor, Sr., Chairman, Charleston County Council, Lonnie Hamilton, III Public Services Building, 4045 Bridge View Drive, North Charleston, SC 29405 | Charleston County Building Services Department, Lonnie Hamilton, III, Public Services Building, 4045 Bridge View Drive, North Charleston, SC 29405 | March 28, 2014 | 455413
South Dakota:
Brown (FEMA Docket No.: B-1411) | City of Aberdeen (13-08-0756P) | The Honorable Mike Levsen, Mayor, City of Aberdeen, 123 South Lincoln Street, Aberdeen, SD 57401 | City Engineer's Office, 123 South Lincoln Street, Aberdeen, SD 57401 | July 11, 2014 | 460007
Brown (FEMA Docket No.: B-1411) | Unincorporated areas of Brown County (13-08-0756P) | The Honorable Duane Sutton, Chairman, Brown County Board of Commissioners, 25 Market Street, Suite 1, Aberdeen, SD 57401 | Brown County Planning and Zoning Department, 25 Market Street, Suite 5, Aberdeen, SD 57401 | July 11, 2014 | 460006
Tennessee: Rutherford (FEMA Docket No.: B-1421) | Unincorporated areas of Rutherford County (13-04-7742P) | The Honorable Earnest Burgess, Mayor, Rutherford County, 1 Public Square South, Room 101, Murfreesboro, TN 37130 | Rutherford County Planning and Engineering Department, 1 Public Square South, Room 200, Murfreesboro, TN 37130 | July 25, 2014 | 470165
Utah:
Salt Lake (FEMA Docket No.: B-1421) | Town of Herriman (14-08-0040P) | The Honorable Carmen Freeman, Mayor, Town of Herriman, 13011 South Pioneer Street, Herriman, UT 84096 | Town Hall, 13011 South Pioneer Street, Herriman, UT 84096 | July 18, 2014 | 490252
Salt Lake (FEMA Docket No.: B-1421) | Unincorporated areas of Salt Lake County (13-08-0707P) | The Honorable Ben McAdams, Mayor, Salt Lake County, 2001 South State Street, Suite N2100, Salt Lake City, UT 84190 | Public Works Department, 2001 South State Street, Suite N3100, Salt Lake City, UT 84190 | July 11, 2014 | 490102

(Catalog of Federal Domestic Assistance No. 97.022, “Flood Insurance.”)

Date: August 26, 2014.
Roy E. Wright,
Deputy Associate Administrator for Mitigation, Department of Homeland Security, Federal Emergency Management Agency.

[FR Doc. 2014-21923 Filed 9-12-14; 8:45 am]

BILLING CODE 9110-12-P